DEPARTMENT OF VETERANS AFFAIRS

[OMB Control No. 2900-0219]

Proposed Information Collection (Application for CHAMPVA Benefits); Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to determine eligibility of persons applying for healthcare benefits under Civilian Health and Medical Program—VA and to request preauthorization of certain health care services and benefits for children of Vietnam veterans born with spina bifida and certain other covered birth defects.

DATES: Written comments and recommendations on the proposed collection of information should be received on or before April 30, 2010.

ADDRESSES: Submit written comments on the collection of information through the Federal Docket Management System (FDMS) at http://www.Regulations.gov; or to Mary Stout, Veterans Health Administration (193E1), Department of Veterans Affairs, 810 Vermont Avenue, NW., Washington, DC 20420 or e-mail: mary.stout@va.gov. Please refer to “OMB Control No. 2900-0219” in any correspondence. During the comment period, comments may be viewed online through FDMS.

FOR FURTHER INFORMATION CONTACT: Mary Stout at (202) 461-5867 or FAX (202) 273-9381.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

a. Application for CHAMPVA Benefits, VA Form 10-10d.

b. CHAMPVA Claim Form, VA Form 10-7959a.

c. CHAMPVA Other Health Insurance (OHI) Certification, VA Form 10-7959c.

d. CHAMPVA Potential Liability Claim, VA Form 10-7959d.

e. Claim for Miscellaneous Expenses, VA Form 10-7959e

OMB Control Number: 2900-0219.

Type of Review: Extension of a currently approved collection.

Abstracts:

a. VA Form 10-10d is used to determine eligibility of persons applying for healthcare benefits under the CHAMPVA program.

b. VA Form 10-7959a is used to accurately adjudicate and process beneficiaries claims for payment/reimbursement of related healthcare expenses.

c. VA Form 10-7959c is used to systematically obtain other health insurance information and to correctly coordinate benefits among all liable parties.

d. VA Form 10-7959d is used to gather additional information relative to the injury or illness as well as third party claim information.

e. Beneficiaries complete VA Form 10-7959e to claim payment/reimbursement of expenses related to spina bifida and certain covered birth defects.

Affected Public: Individuals or households.

Estimated Annual Burden:

a. VA Form 10-10d—4,411 hours.

b. VA Form 10-7959a—37,336 hours.

c. VA Form 10-7959c—13,456 hours.

d. VA Form 10-7959d—467 hours.

e. VA Form 10-7959e—725 hours

Estimated Average Burden per Respondent:

a. VA Form 10-10d—10 minutes.

b. VA Form 10-7959a—10 minutes.

c. VA Form 10-7959c—10 minutes.

d. VA Form 10-7959d—7 minutes.

e. VA Form 10-7959e—10 minutes.

Frequency of Response: On occasion.

Estimated Number of Respondents:

a. VA Form 10-10d—26,468.

b. VA Form 10-7959a—224,018.

c. VA Form 10-7959c—80,733.

d. VA Form 10-7959d—4,000.

e. VA Form 10-7959e—4,400.

Dated: February 23, 2010.
By direction of the Secretary.
Denise McLamb,
Program Analyst, Enterprise Records Service.

[FR Doc. 2010-4061 Filed 2-26-10; 8:45 am]

BILLING CODE 8320-01-P